DEPARTMENT OF ENERGY

Federal Energy Regulatory Commission

[Docket No. TM99-6-29-004]

Transcontinental Gas Pipe Line Corporation; Notice of Compliance Filing

January 5, 2001.

Take notice that on December 29, 2000, Transcontinental Gas Pipe Line Corporation (Transco) tendered for filing the calculation of the appropriate refund amount with interest and the supporting workpapers in Docket No. TM99-6-29-001. Transco also tendered for filing pro forma tariff sheets to its FERC Gas Tariff, Third Revised Volume No. 1 reflecting revised fuel retention percentages for the annual period commencing April 1, 2000. The proposed effective date of such tariff sheets is April 1, 2000.

Transco states that the instant filing is submitted in compliance with the Commission's Notice of Extension of Time issued November 30, 2000 in Docket No. TM99-6-29-001. In that notice, the Commission granted Transco an extension of time to file its refund calculation and justification of the appropriate refunds with interest as specified by the Commission's October 30, 2000 “Order on Rehearing”.

Transco states that it is serving copies of the instant filing to its affected customers and interested State Commissions.

Any person desiring to protest said filing should file a protest with the Federal Regulatory Commission, 888 First Street, NE., Washington, DC 20426, in accordance with Section 385.211 of the Commission's Rules and Regulations. All such protests must be filed on or before January 12, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-845 Filed 1-10-01; 8:45 am]

BILLING CODE 6717-01-M